DEPARTMENT OF JUSTICE

Notice of Lodging of Consent Decree Under the Clean Water Act and Oil Pollution Act

Pursuant to 28 CFR 50.7, notice is hereby given that on May 24, 2004, a proposed Consent Decree (“Decree”) in United States v. GC Quality Lubricants, Inc., Georgia-Carolina Oil Company, Bay Street Corporation, and John Paul Jones, Jr., Civil Action No. 5:01cv03233HL (M.D. Ga.), was lodged with the United States District Court for the Middle District of Georgia.

In this action the United States sought Clean Water Act (“CWA”) penalties, compliance with CWA oil pollution prevention regulations, and cost recovery under the Oil Pollution Act (“OPA”) for the United States' response costs for the removal conducted at the GC Quality Lubricants, Inc. (“GC”) petroleum-based lubricants facility in Macon, Georgia (“Facility”). The Decree provides for GC to consent to an allowed general unsecured claim of $3,000,000 for the cost recovery claim against GC, and to an allowed general unsecured claim of $325,000 for the penalty claim against GC, both subject to approval by the United States Bankruptcy Court for the Middle District of Georgia in In re GC Quality Lubricants, Inc., No. 01-54952 RFH (Bankr. M.D. Ga.). The Decree also provides for a penalty of $75,000 against Settling Defendant Mr. Jones, and for Mr. Jones to consent to an allowed general unsecured claim of $3,000,000 for the cost recovery claim against him, subject to approval by the United States Bankruptcy Court for the Middle District of Georgia in In re John Paul Jones, Jr., No. 01-55087-RFH (Bankr. M.D. Ga.). The Decree further provides for injunctive relief, specifically, compliance at the Facility with oil pollution prevention regulations.

The Department of Justice will receive for a period of thirty (30) days from the date of this publication comments relating to the Decree. Comments should be addressed to the Assistant Attorney General, Environmental and Natural Resources Division, P.O. Box 7611, U.S. Department of Justice, Washington, DC 20044-7611, and should refer to United States v. GC Quality Lubricants, Inc., Georgia-Carolina Oil Company, Bay Street Corporation, and John Paul Jones, Jr., Civil Action No. 5:01cv03233HL (M.D. Ga.), D.J. Ref. 90-5-1-1-07033.

The Decree may be examined at the Office of the United States Attorney, Middle District of Georgia, 433 Cherry Street, Macon, Georgia 31201, and at U.S. EPA Region 4, Atlanta Federal Center, 61 Forsyth Street, SW., Atlanta, Georgia 30303-3104. During the public comment period, the Decree may also be examined on the following Department of Justice Web site, http://www.usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury.

Ellen M. Mahan,
Assistant Chief, Environmental Enforcement Section, Environment and Natural Resources Division.

[FR Doc. 04-12622 Filed 6-3-04; 8:45 am]

BILLING CODE 4410-15-M